DEPARTMENT OF HEALTH AND HUMAN SERVICES

National Institutes of Health

Center for Scientific Review; Amended Notice of Meeting

Notice is hereby given of a change in the meeting of the Center for Scientific Review Special Emphasis Panel, October 31, 2001, 1:30 PM to November 1, 2001, 5 PM, Holiday Inn, 8120 Wisconsin Avenue, Bethesda, MD, 20814 which was published in the Federal Register on October 15, 2001, 66 FR 52441-52444.

The meeting will be one day only October 31, 2001, from 1:30 PM to 5 PM. The location remains the same. The meeting is closed to the public.

Dated: October 26, 2001.
LaVerne Y. Stringfield,
Director, Office of Federal Advisory Committee Policy.

[FR Doc. 01-27515 Filed 11-1-01; 8:45 am]

BILLING CODE 4140-1-M